INTERNATIONAL TRADE COMMISSION

[Investigation Nos. 701-TA-384 and 731-TA-806-808 Second Review]

Hot-Rolled Flat-Rolled Carbon-Quality Steel Products From Brazil, Japan, and Russia

Determinations

On the basis of the record ¹ developed in the subject five-year reviews, the United States International Trade Commission (Commission) determines, pursuant to section 751(c) of the Tariff Act of 1930 (19 U.S.C. 1675(c)), that termination of the suspension agreement on hot-rolled flat-rolled carbon-quality steel products from Russia would be likely to lead to continuation or recurrence of material injury to an industry in the United States within a reasonably foreseeable time. The Commission further determines that revocation of the countervailing duty order on hot-rolled flat-rolled carbon-quality steel products from Brazil and revocation of the antidumping duty orders on hot-rolled flat-rolled carbon-quality steel products from Brazil and Japan would not be likely to lead to continuation or recurrence of material injury to an industry in the United States within a reasonably foreseeable time.²

¹ The record is defined in sec. 207.2(f) of the Commission's Rules of Practice and Procedure (19 CFR 207.2(f)).

² Commissioners Charlotte R. Lane and Dean A. Pinkert dissent with respect to the determinations regarding hot-rolled flat-rolled carbon-quality steel products from Brazil and Japan.

Background

The Commission instituted these reviews on April 1, 2010 (75 FR 16504) and determined on July 6, 2010 that it would conduct full reviews (75 FR 42782, July 22, 2010). Notice of the scheduling of the Commission's reviews and of a public hearing to be held in connection therewith was given by posting copies of the notice in the Office of the Secretary, U.S. International Trade Commission, Washington, DC, and by publishing the notice in the Federal Register on October 12, 2010 (75 FR 62566). The hearing was held in Washington, DC, on April 6, 2011, and all persons who requested the opportunity were permitted to appear in person or by counsel.

The Commission transmitted its determination in these reviews to the Secretary of Commerce on June 6, 2011. The views of the Commission are contained in USITC Publication 4237 (June 2011) entitled Hot-Rolled Flat-Rolled Carbon-Quality Steel Products from Brazil, Japan, and Russia: Investigation Nos. 701-TA-384 and 731-TA-806-808 (Second Review).

By order of the Commission.
Issued: June 6, 2011.
James R. Holbein,
Secretary to the Commission.

[FR Doc. 2011-14375 Filed 6-9-11; 8:45 am]

BILLING CODE 7020-02-P